DEPARTMENT OF HOMELAND SECURITY

Coast Guard

33 CFR Part 117

[CGD01-07-047]

Drawbridge Operation Regulations; Pequonnock River, Bridgeport, CT

AGENCY: Coast Guard, DHS.

ACTION: Notice of temporary deviation from regulations.

SUMMARY: The Commander, First Coast Guard District, has issued a temporary deviation from the regulation governing the operation of the Stratford Avenue Bridge across the Pequonnock River, mile 0.1, at Bridgeport, Connecticut. Under this temporary deviation, in effect from May 29, 2007 through September 17, 2007, the Stratford Avenue Bridge may remain in the closed position, except for scheduled daily bridge openings. This deviation is necessary to facilitate scheduled bridge maintenance.

DATES: This deviation is effective from May 29, 2007 through September 17, 2007.

ADDRESSES: Materials referred to in this document are available for inspection or copying at the First Coast Guard District, Bridge Branch Office, One South Street, New York, New York, 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7195.

SUPPLEMENTARY INFORMATION: The Stratford Avenue Bridge, across the Pequonnock River, mile 0.1, at Bridgeport, Connecticut, has a vertical clearance in the closed position of 8 feet at mean high water and 14 feet at mean low water. The existing drawbridge operation regulations are listed at 33 CFR 117.219(b).

The owner of the bridge, Connecticut Department of Transportation, requested a temporary deviation to facilitate bridge deck replacement. The bridge will not be able to open while the bridge deck removal is underway and until it is rebalanced.

Under this temporary deviation the Stratford Avenue Bridge shall operate as follows:

From May 29, 2007 through July 19, 2007, Monday through Saturday, the bridge may remain in the closed position, except that, the bridge shall open on signal from 6 a.m. to 7 a.m. and from 4 p.m. to 7 p.m. The bridge shall open on signal all day on Sundays, and on Wednesday, July 4, 2007.

From July 20, 2007 through September 17, 2007, Monday through Saturday, the bridge may remain in the closed position, except that, the bridge shall open on signal from 6 a.m. to 7 a.m., and from 4 p.m. to 7 p.m., and, from 7 p.m. to 6 a.m., the bridge shall open on signal after at least a two-hour advance notice is given by calling (203) 579-6204. The bridge shall open on signal all day on Sundays, and the Labor Day weekend (September 1, 2, and 3, 2007.)

In accordance with 33 CFR 117.35(e), this work will be performed with all due speed in order to return the bridge to normal operation as soon as possible.

Should the bridge maintenance authorized by this temporary deviation be completed before the end of the effective period published in this notice, the Coast Guard will cancel the remainder of this temporary deviation, and the bridge shall be returned to its normal operating schedule. Notice of the above action shall be provided to the public in the Local Notice to Mariners and the Federal Register, where practicable.

This deviation from the operating regulations is authorized under 33 CFR 117.35.

Dated: May 11, 2007.
Gary Kassof,
Bridge Program Manager, First Coast Guard District.

[FR Doc. E7-9693 Filed 5-21-07; 8:45 am]

BILLING CODE 4910-15-P